NATIONAL AERONAUTICS AND SPACE ADMINISTRATION

[Notice: 23-100]

Earth Science Advisory Committee; Meeting

AGENCY: National Aeronautics and Space Administration.

ACTION: Notice of meeting.

SUMMARY: In accordance with the Federal Advisory Committee Act, as amended, the National Aeronautics and Space Administration (NASA) announces a meeting of the Earth Science Advisory Committee (ESAC). This Committee functions in an advisory capacity to the Director, Earth Science Division, in the NASA Science Mission Directorate. The meeting will be held for the purpose of soliciting, from the science community and other persons, scientific and technical information relevant to program planning.

DATES: Thursday, October 19, 2023, 1 p.m.-3:30 p.m., eastern time.

FOR FURTHER INFORMATION CONTACT: KarShelia Kinard, Science Mission Directorate, NASA Headquarters, Washington, DC 20546, (202) 358-2355 or karshelia.kinard@nasa.gov.

SUPPLEMENTARY INFORMATION: This meeting will be open to the public telephonically and by WebEx. You must use a touch-tone phone to participate in this meeting. Any interested person may dial +1-415-527-5035 United States Toll+1-312-500-3163 United States Toll. Access code: 276 120 37516, to participate in this meeting by telephone.

The WebEx link is: https://nasaevents.webex.com/nasaevents/j.php?MTID=mb3a302e212e04a4f326f3a71822524c1 the event number is 2761 203 7516 and the event password: W73Je3Szjza (case sensitive) (97353379 from phones and video systems).

The agenda for the meeting includes the following topics:

—Earth Science Program Annual Performance Review According to the Government Performance and Results Act Modernization Act

—Final Report of the ESAC Subcommittee Unidentified Anomalous Phenomena (UAP) Independent Study Team.

It is imperative that the meeting be held on this date to accommodate the scheduling priorities of the key participants.

Patricia Rausch,
Advisory Committee Management Officer, National Aeronautics and Space Administration.

[FR Doc. 2023-21672 Filed 9-29-23; 8:45 am]

BILLING CODE 7510-13-P